NUCLEAR REGULATORY COMMISSION

[Docket No. 52-007]

Exelon Generation Company, LLC, Clinton Early Site Permit; Notice of Intent To Prepare an Environmental Impact Statement and Conduct Scoping Process

Exelon Generation Company, LLC (Exelon) has submitted an application for an early site permit (ESP) for property co-located with the existing Clinton Power Station facility near Clinton, Illinois identified as the Clinton ESP site. The site is located near the town of Clinton in DeWitt County, Illinois. The application for the ESP was submitted by letter dated September 25, 2003, pursuant to 10 CFR part 52. The application also includes a site redress plan in accordance with 10 CFR 52.17(c) and 52.25. If a site redress plan is incorporated in an approved ESP, the applicant may carry out certain site preparation work and limited construction activities. A notice of receipt and availability of the application, which included the environmental report (ER), was published in the Federal Register on October 24, 2003 (68 FR 61020). A notice of acceptance for docketing of the application for the ESP was published in the Federal Register on October 30, 2003 (68 FR 61835). The purpose of this notice is to inform the public that the U.S. Nuclear Regulatory Commission (NRC) will be preparing an environmental impact statement (EIS) in support of the review of the ESP application and to provide the public with an opportunity to participate in the environmental scoping process as defined in 10 CFR 51.29. In addition, as outlined in 36 CFR 800.8, “Coordination with the National Environmental Policy Act,” the NRC plans to coordinate compliance with section 106 of the National Historic Preservation Act in meeting the requirements of the National Environmental Policy Act (NEPA).

In accordance with 10 CFR 52.17(a)(2), 51.45, and 51.50, Exelon submitted the ER as part of the application. The ER was prepared pursuant to 10 CFR parts 51 and 52 and is available for public inspection at the NRC Public Document Room (PDR) located at One White Flint North, 11555 Rockville Pike (first floor), Rockville, Maryland, or from the Publicly Available Records component of NRC's Agencywide Documents Access and Management System (ADAMS). ADAMS is accessible at http://www.nrc.gov/reading-rm/adams.html, which provides access through the NRC's Public Electronic Reading Room (PERR) link. Persons who do not have access to ADAMS, or who encounter problems in accessing the documents located in ADAMS, should contact the NRC's PDR Reference staff at 1-800-397-4209, or 301-415-4737, or by e-mail to pdr@nrc.gov. The application may also be viewed on the Internet at http://www.nrc.gov/reactors/new-licensing/license-reviews/esp/clinton.html. In addition, the Vespasian Warner Public Library, located at 310 N. Quincy Street, Clinton, Illinois 61727-1300, has agreed to make the ER available for public inspection.

The following key reference documents related to the ESP applications and the NRC staff's review process are available through the NRC's Web site http://www.nrc.gov:

a. 10 CFR part 51, Environmental protection regulations for domestic licensing and related regulatory functions.

b. 10 CFR part 52, Early site permits; standard design certifications; and combined licenses for nuclear power plants.

c. 10 CFR part 100, Reactor site criteria.

d. NUREG-1555, Standard Review Plans for Environmental Reviews for Nuclear Power Plants.

e. NUREG/BR-0298, Brochure on Nuclear Power Plant Licensing Process.

f. Regulatory Guide 4.7, General Site Suitability Criteria for Nuclear Power Stations.

g. Fact Sheet on Nuclear Power Plant Licensing Process.

h. Draft Review Standard RS-002, Processing Applications for Early Site Permits.

i. NRR Office Instruction LIC-203, Procedural Guidance for Preparing Environmental Assessments and Considering Environmental Issues.

The regulations, NUREG-series documents, regulatory guide, and fact sheet can be found under Document Collections in the Electronic Reading Room on the NRC web page. The draft review standard is at http://www.nrc.gov/reactors/new-licensing/license-reviews/esp/esp-public-comments-rs-002.html. Finally, Office Instruction LIC-203 can be found in ADAMS in two parts under accession numbers ML011710073 (main text) and ML011780314 (charts and figures).

This notice advises the public that the NRC intends to gather the information necessary to prepare an EIS in support of the review of the application for an ESP and the site redress plan at the Clinton ESP site. Possible alternatives to the proposed action (issuance of the ESP at the Clinton ESP site) include no action and consideration of alternative sites. The NRC is required by 10 CFR 52.18 to prepare an EIS in connection with the issuance of an ESP. This notice is being published in accordance with NEPA and the NRC's regulations found in 10 CFR Part 51.

The NRC will first conduct a scoping process for the EIS and, as soon as practicable thereafter, will prepare a draft EIS for public comment. Participation in this scoping process by members of the public and local, State, Tribal, and Federal government agencies is encouraged. The scoping process for the draft EIS will be used to accomplish the following:

a. Define the proposed action which is to be the subject of the EIS.

b. Determine the scope of the EIS and identify the significant issues to be analyzed in depth.

c. Identify and eliminate from detailed study those issues that are peripheral or that are not significant.

d. Identify any environmental assessments and other EISs that are being or will be prepared that are related to but are not part of the scope of the EIS being considered.

e. Identify other environmental review and consultation requirements related to the proposed action.

f. Indicate the relationship between the timing of the preparation of environmental analyses and the Commission's tentative planning and decision-making schedule.

g. Identify any cooperating agencies and, as appropriate, allocate assignments for preparation and schedules for completing the EIS to the NRC and any cooperating agencies.

h. Describe how the EIS will be prepared, including any contractor assistance to be used.

The NRC invites the following entities to participate in the scoping:

a. The applicant, Exelon Generation Company, LLC.

b. Any Federal agency that has jurisdiction by law or special expertise with respect to any environmental impact involved, or that is authorized to develop and enforce relevant environmental standards.

c. Affected State and local government agencies, including those authorized to develop and enforce relevant environmental standards.

d. Any affected Indian tribe.

e. Any person who requests or has requested an opportunity to participate in the scoping process.

f. Any person who intends to petition for leave to intervene.

In accordance with 10 CFR 51.26, the scoping process for an EIS may include a public scoping meeting to help identify significant issues related to a proposed activity and to determine the scope of issues to be addressed in an EIS. The NRC will hold a public meeting for the EIS regarding the Clinton ESP application and the associated site redress plan. The scoping meeting will be held in the Vespasian Warner Public Library, located at 310 N. Quincy Street, Clinton, Illinois, on Thursday, December 18, 2003. The meeting will convene at 7 p.m. and will continue until 9:30 p.m., as necessary. The meeting will be transcribed and will include the following: (1) An overview by the NRC staff of the NEPA environmental review process, the proposed scope of the EIS, and the proposed review schedule; and (2) the opportunity for interested Government agencies, organizations, and individuals to submit comments or suggestions on the environmental issues or the proposed scope of the EIS. Additionally, the NRC staff will host informal discussions one hour prior to the start of the meeting at the Vespasian Warner Public Library. No formal comments on the proposed scope of the EIS will be accepted during the informal discussions. To be considered, comments must be provided either during the transcribed portion of the public meeting or in writing, as discussed below. Persons may pre-register to attend or present oral comments at the meeting on the scope of the NEPA review by contacting Ms. Jennifer Davis by telephone at 1 (800) 368-5642, extension 3835, or by Internet at ClintonEIS@nrc.gov no later than December 5, 2003. Members of the public may also register to speak at the meeting within 15 minutes of the start of the session. Individual oral comments may be limited by the time available, depending on the number of persons who register. Members of the public who have not registered may also have an opportunity to speak, if time permits. Public comments will be considered in the scoping process for the EIS. If special equipment or accommodations are needed to attend or present information at the public meeting, the need should be brought to Ms. Davis' attention no later than December 5, 2003, so that the NRC staff can determine whether the request can be accommodated.

Members of the public may send written comments on the environmental scope of the Clinton ESP and site redress plan review to the Chief, Rules and Directives Branch, Division of Administrative Services, Office of Administration, Mailstop T-6D59, U.S. Nuclear Regulatory Commission, Washington, DC 20555-0001, and should cite the publication date and page number of this Federal Register notice. Comments may also be hand-delivered to the NRC at 11545 Rockville Pike, Rockville, Maryland, Room T-6D59, from 7:30 a.m. to 4:15 p.m. during Federal workdays. To be considered in the scoping process, written comments should be postmarked by January 9, 2004. Electronic comments may be sent by the Internet at ClintonEIS@nrc.gov. Electronic submissions should be sent no later than January 9, 2004, to be considered in the scoping process. Comments will be available electronically and accessible through the NRC's PERR link http://www.nrc.gov/reading-rm/adams.html at the NRC Homepage.

Participation in the scoping process for the EIS does not entitle participants to become parties to the proceeding to which the EIS relates. Notice of a hearing regarding the application for an ESP will be the subject of a future Federal Register notice.

At the conclusion of the scoping process, the NRC will prepare a concise summary of the determination and conclusions reached, including the significant issues identified, and will send a copy of the summary to each participant in the scoping process. The summary will also be available for inspection through the NRC's PERR link. The staff will then prepare and issue for comment the draft EIS, which will be the subject of separate notices and a separate public meeting. Copies will be available for public inspection at the above-mentioned addresses, and one copy per request will be provided free of charge. After receipt and consideration of the comments, the NRC will prepare a final EIS, which will also be available for public inspection.

Information about the proposed action, the EIS, and the scoping process may be obtained from Ms. Davis at the aforementioned telephone number or e-mail address.

Dated at Rockville, Maryland, this 19th day of November 2003.
For the Nuclear Regulatory Commission.
K. Steven West,
Acting Program Director, License Renewal and Environmental Impacts, Division of Regulatory Improvements Program, Office of Nuclear Reactor Regulation.

[FR Doc. 03-29351 Filed 11-24-03; 8:45 am]

BILLING CODE 7590-01-P